DEPARTMENT OF THE INTERIOR

Minerals Management Service

30 CFR Part 250

RIN 1010-AC93

Oil and Gas and Sulphur Operations in the Outer Continental Shelf—Document Incorporated by Reference—API RP 14C

AGENCY: Minerals Management Service (MMS), Interior.

ACTION: Correcting amendment.

SUMMARY: This document makes a correction to the final rule titled “Oil and Gas and Surphur Operations in the Outer Continental Shelf—Document Incorporated by Reference—API RP 14C” that was published August 9, 2002 (67 FR 51757). A portion of the text in 30 CFR 250.803(b) was inadvertently deleted. This amendment will add the paragraphs back into the regulation.

EFFECTIVE DATE: This rule becomes effective on November 19, 2003.

FOR FURTHER INFORMATION CONTACT: Wilbon Rhome, Operations Analysis Branch at (703) 787-1587.

SUPPLEMENTARY INFORMATION:

Background

The final regulations that are the subject of this correction supersede Section 250.803(b)(7) paragraphs (i), (ii), (iii), and (iv), Title 30 of the CFR, parts 200 to 699 inadvertently deleted.

Need for Correction

As published, the final regulations contain deletions that need to be reinstated.

List of Subjects in 30 CFR Part 250

Continental shelf, Environmental impact statements, Environmental protection, Government contracts, Incorporation by reference, Investigations, Mineral royalties, Oil and gas development and production, Oil and gas exploration, Oil and gas reserves, Penalties, Pipelines, Public lands—mineral resources, Public lands-rights-of-way, Reporting and recordkeeping requirements, Sulphur development and production, Sulphur exploration, Surety bonds.

Correction of Publication

Accordingly, 30 CFR Part 250 is corrected by making the following correcting amendment:

PART 250—OIL AND GAS AND SULPHUR OPERATIONS IN THE OUTER CONTINENTAL SHELF

1. The authority citation for part 250 continues to read as follows:

Authority: 43 U.S.C. 1331, et seq.

2. In § 250.803, revise paragraph (b)(7) to read as follows:

§ 250.803 Additional production system requirements.

* * * * *

(b)(7) Gas compressors. You must equip compressor installations with the following protective equipment as required in API RP 14C, Sections A4 and A8 (incorporated by reference as specified in § 250.198).

(i) A Pressure Safety High (PSH), a Pressure Safety Low (PSL), a Pressure Safety Valve (PSV), and a Level Safety High (LSH), and an LSL to protect each interstage and suction scrubber.

(ii) A Temperature Safety High (TSH) on each compressor discharge cylinder.

(iii) The PSH and PSL shut-in sensors and LSH shut-in controls protecting compressor suction and interstage scrubbers shall be designated to actuate automatic shutdown valves (SDV) located in each compressor suction and fuel gas line so that the compressor unit and the associated vessels can be isolated from all input sources. All automatic SDV's installed in compressor suction and fuel gas piping shall also be actuated by the shutdown of the prime mover. Unless otherwise approved by the District Supervisor, gas—well gas affected by the closure of the automatic SDV on a compressor suction shall be diverted to the pipeline or shut in at the wellhead.

(iv) A blowdown valve is required on the discharge line of all compressor installations of 1,000 horsepower (746 kilowatts) or greater.

* * * * *

Dated: October 30, 2003.
Rebecca W. Watson,
Assistant Secretary—Land and Minerals Management.

[FR Doc. 03-28869 Filed 11-18-03; 8:45 am]

BILLING CODE 4310-MR-P